DEPARTMENT OF AGRICULTURE

Rural Utilities Service

Information Collection Activity; Comment Request

AGENCY: Rural Utilities Service, USDA.

ACTION: Notice and request for comments.

SUMMARY: USDA Rural Development administers rural utilities programs through the Rural Utilities Service (Agency). In accordance with the Paperwork Reduction Act of 1995 (44 U.S.C. chapter 35, as amended), the Agency invites comments on the following information collections for which Agency intends to request approval from the Office of Management and Budget (OMB).

DATES: Comments on this notice must be received by October 16, 2006.

FOR FURTHER INFORMATION CONTACT: Richard C. Annan, Director, Program Development and Regulatory Analysis, USDA Rural Development Utilities Programs, 1400 Independence Ave., SW., STOP 1522, Room 5818, South Building, Washington, DC 20250-1522. Telephone: (202) 720-0784. Fax: (202) 720-8435.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities [see 5 CFR 1320.8(d)]. This notice identifies information collections that RUS is submitting to OMB for extension.

Comments are invited on: (a) Whether this collection of information is necessary for the proper performance of the functions of the agency, including whether the information will have practical utility; (b) the accuracy o9f the agency's estimate of the burden of the collection of information including the validity of the methodology and assumptions used; (c) ways to enhance the quality, utility, and clarity of the information to be collected; and (d) ways to minimize the burden of the collection of information on respondents, including through the use of appropriate automated, electronic, mechanical or other technological collection techniques or other forms of information technology. Comments may be sent to Richard C. Annan, Director, Program Development and Regulatory Analysis, USDA Rural Development Utilities Programs, U.S. Department of Agriculture, STOP 1522, 1400 Independence Ave., SW., Washington, DC 20250-1522. Fax: (202) 720-0784.

Title: CFR Part 1794, Environmental policies and Procedures.

OMB Control Number: 0572-0117.

Type of Request: Extension of a currently approved collection.

Abstract: The information collection contained in this rule are requirements prescribed by the National Environmental Policy Act of 1969 (NEPA), as amended (42 U.S.C. 4321-4346), the Council on environmental Quality (CEQ) Regulations for Implementing the Procedural Provisions of NEPA (40 CFR parts 1500-1508), and Executive Orders. USDA Rural Development administers rural utilities programs through the Rural Utilities Service (Agency). Agency applicants provide environmental documentation, as prescribed by the rule, to assure that policy contained in NEPA is followed. The burden varies depending on the type, size, and location of each project, which then prescribes the type of information collection involved. The collection of information is only that information that is essential for the Agency to provide environmental safeguards and to comply with NEPA as implemented by the CEQ regulations.

Estimate of Burden: Public reporting burden for this collection of information is estimated to average 240 hours per response.

Respondents: Business or other for-profit and non-for-profit institutions.

Estimated Number of Respondents: 600.

Estimated Number of Responses per Respondent: 3.

Estimated Total Annual Burden on Respondents: 450,200 hours.

Copies of this information collection can be obtained from MaryPat Daskal, Program Development and Regulatory Analysis, USDA Rural Development Utilities Programs, at (202) 720-7853. FAX: (202) 720-7853.

All responses to this notice will be summarized and included in the request from OMB approval. All comments will also become a matter of public record.

Dated: August 9, 2006.
Curtis M. Anderson,
Deputy Administrator, Rural Utilities Service.

[FR Doc. 06-6938 Filed 8-14-06; 8:45 am]

BILLING CODE 3410-15-M